DEPARTMENT OF LABOR

Employment and Training Administration

[TA-W-53,638]

American Shoe Corporation, Skowhegan, Maine; Notice of Termination of Investigation

Pursuant to section 221 of the Trade Act of 1974, as amended, an investigation was initiated on November 25, 2003 in response to a petition filed on behalf of workers of American Shoe Corporation, Skowhegan, Maine.

The petitioning group of workers is covered by an active certification issued on March 18, 2002 which remains in effect until March 18, 2004 (TA-W-39,458). Consequently, further investigation in this case would serve no purpose, and the investigation has been terminated.

Signed at Washington, DC, this 4th day of January, 2004.
Linda G. Poole,
Certifying Officer, Division of Trade Adjustment Assistance.

[FR Doc. 04-1519 Filed 1-23-04; 8:45 am]

BILLING CODE 4510-30-P